DEPARTMENT OF HEALTH AND HUMAN SERVICES

Centers for Disease Control and Prevention

[CDC-2020-0082]

Public Health Associate Program (PHAP) Alumni and Host Site Assessment; Reopening of the Comment Period

AGENCY: Center for State, Tribal, Local, and Territorial Support (CSTLTS), Centers for Disease Control and Prevention (CDC), Department of Health and Human Services (HHS).

ACTION: Notice and reopening of comment period.

SUMMARY: On July 28, 2018 the Center for State, Tribal, Local, and Territorial Support (CSTLTS), Centers for Disease Control and Prevention (CDC), published a notice in the Federal Register announcing the Public Health Associate Program (PHAP) Alumni and Host Site Assessment. Written comments were to be received by September 28, 2020. The Docket Number that was included in the initial publication of this 60 Day Federal Register Notice was incorrect. CDC is announcing the reopening of the comment period.

DATES: Electronic or written comments must be received by January 12, 2021.

ADDRESSES: You may submit comments, identified by Docket No. CDC-2020-0082, by any of the following methods:

Federal eRulemaking Portal: Regulations.gov. Follow the instructions for submitting comments.

Mail: Jeffrey M. Zirger, Information Collection Review Office, Centers for Disease Control and Prevention, 1600 Clifton Road NE, MS-D74, Atlanta, Georgia 30329.

FOR FURTHER INFORMATION CONTACT: Jeffrey M. Zirger, Information Collection Review Office, Centers for Disease Control and Prevention, 1600 Clifton Road NE, MS-D74, Atlanta, Georgia 30329; phone: 404-639-7570; Email: omb@cdc.gov.

SUPPLEMENTARY INFORMATION: Instructions: All submissions received must include the agency name and Docket Number. CDC will post, without change, all relevant comments to Regulations.gov.

Please note: Submit all comments through the Federal eRulemaking portal (regulations.gov) or by U.S. mail to the address listed above.

Dated: November 4, 2020.
Jeffrey M. Zirger,
Lead, Information Collection Review Office, Office of Scientific Integrity, Office of Science, Centers for Disease Control and Prevention.

[FR Doc. 2020-25146 Filed 11-12-20; 8:45 am]

BILLING CODE 4163-19-P